DEPARTMENT OF HEALTH AND HUMAN SERVICES

Administration for Children and Families

Notification of the Establishment of the National Commission on Children and Disasters

AGENCY: Administration for Children and Families, Department of Health and Human Services.

ACTION: Notification of the establishment of the National Commission on Children and Disasters.

SUMMARY: This notice announces the establishment of the National Commission on Children and Disasters, a Secretary's Advisory Committee. The Consolidated Appropriations Act, 2008 (Pub. L. 110-161), Division G, Title VI, directs the establishment of the National Commission on Children and Disasters. The Commission shall conduct a comprehensive study to examine and assess the needs of children as they relate to preparation for, response to, and recovery from all hazards, building upon the evaluation of other entities and avoiding unnecessary duplication by reviewing the findings, conclusions, and recommendations of these entities, and shall then submit a report to the President and Congress on the Commission's specific findings, conclusions, and recommendations to address the needs of children as they relate to major disasters and emergencies.

FOR FURTHER INFORMATION CONTACT: Roberta Lavin, Office of Human Services Emergency Preparedness and Response, e-mail Roberta.lavin@acf.hhs.gov or 202-401-9306.

SUPPLEMENTARY INFORMATION:

I. Background

The Commission and its staff are governed by the provisions of the Federal Advisory Committee Act (5 U.S.C. Appendix 2), which sets forth the standards for the formation and use of advisory committees. The Secretary's establishment of this Commission is authorized pursuant to Section 1114 of the Social Security Act (42 U.S.C. 1314).

The Commission shall determine a schedule of meetings following an election of a Chairperson and Vice Chairperson from among its members. An initial meeting of the Commission shall take place not later than 120 days after all members of the Commission have been appointed.

II. Criteria for Members

The Commission shall be composed of ten members, of whom one shall be the Chairperson and one shall be the Vice Chairperson, as determined by an election among the total membership, and shall be appointed by the Secretary in a manner designed to assure bipartisan representation on the Commission, in accordance with the intent of Congress as follows:

• No members of the Commission may be officials or employees of the Federal Government;

• At least one member appointed to the Commission must be a representative from a private nonprofit entity with demonstrated experience in addressing the needs of children as they relate to preparation for, response to, and recovery from all hazards, including major disasters and emergencies; and

• At least one member appointed to the Commission must be a State emergency manager or local emergency manager.

III. Copies of the Charter

To obtain a copy of the Commission's Charter, submit a written request to the above contact.

Dated: August 27, 2008.
Daniel C. Schneider,
Acting Assistant Secretary for Children and Families.

[FR Doc. E8-20378 Filed 9-2-08; 8:45 am]

BILLING CODE 4184-01-P